DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “The Consumer Assessment of Healthcare Providers and Systems (CAHPS) Patient-Centered Medical Home (PCMH) Items Demonstration Study.” In accordance with the Paperwork Reduction Act, AHRQ invites the public to comment on this proposed information collection.

This proposed information collection was previously published in the Federal Register on August 3rd, 2016 and allowed 60 days for public comment. AHRQ did not receive any substantive comments. The purpose of this notice is to allow an additional 30 days for public comment.

DATES: Comments on this notice must be received by December 23, 2016.

ADDRESSES: Written comments should be submitted to: AHRQ's OMB Desk Officer by fax at (202) 395-6974 (attention: AHRQ's desk officer) or by email at OIRA_submission@omb.eop.gov (attention: AHRQ's desk officer).

FOR FURTHER INFORMATION CONTACT: Doris Lefkowitz, AHRQ Reports Clearance Officer, (301) 427-1477, or by email at doris.lefkowitz@AHRQ.hhs.gov.

SUPPLEMENTARY INFORMATION:

Proposed Project

“The Consumer Assessment of Healthcare Providers and Systems (CAHPS) Patient-Centered Medical Home (PCMH) Items Demonstration Study.”

This study is being conducted by AHRQ through its contractor, RAND, pursuant to AHRQ's statutory authority to conduct and support research on healthcare and on systems for the delivery of such care, including activities with respect to the quality, effectiveness, efficiency, appropriateness and value of healthcare services and with respect to quality measurement and improvement. 42 U.S.C. 299a(a)(1) and (2).

Method of Collection

The patient-centered medical home (PCMH) is a model for delivering primary care that is patient-centered, comprehensive, coordinated, accessible, and continuously improved through a systems-based approach to quality and safety.

As primary care practices across the United States seek National Committee for Quality Assurance (NCQA) recognition as patient-centered medical homes (PCMH), they can choose to administer the Consumer Assessment of Healthcare Providers and Systems (CAHPS®) Clinician and Group (CG-CAHPS) survey with or without the PCMH supplemental item set (AHRQ, 2010; Hays et al., 2014; Ng et al., 2016; Scholle et al., 2012). NCQA offers a special patient experience distinction to practices that opt to use the CAHPS PCMH items set in their CG-CAHPS survey tool. While over 11,000 practices, representing an estimated 15-18% of primary care physicians, are currently recognized for PCMH by NCQA (NCQA, 2015), fewer than 3% of them submit patient experience surveys to NCQA when applying for recognition under NCQA's PCMH recognition program.

Despite the rapid movement toward PCMH primary care transformation and the increasing use of CAHPS PCMH items, little is known about the ways in which practices are using these CAHPS data and the PCMH supplemental item information (about access, comprehensiveness, self-management, shared decision making, coordination of care, and information about care and appointments) to understand and improve their patients' experiences during PCMH transformation. The PCMH Items Demonstration Study will investigate:

• How practices across the U.S. use CAHPS and the PCMH item set during PCMH transformation,

• How practices assemble and select items for inclusion in their patient experience surveys (e.g. core, PCMH, supplemental, and custom items),

• Primary care practice leaders' perspectives on NCQA PCMH Recognition and CAHPS Patient Experience Distinction,

• Effects of changes made during PCMH transformation on patient experiences reported on CAHPS surveys and any PCMH items, and

• Associations between PCMH transformation and patient experience scores.

To achieve the goals of this project the following data collections will be implemented:

(1) Office Manager Questions administered via phone about the participating practice's characteristics to describe the type of practices in the study and to understand how practice characteristics influence PCMH transformation and patient experience.

(2) Physician Interviews administered via phone with the lead PCMH clinical expert about the details, decisions and processes of PCMH transformation, NCQA PCMH Recognition and CAHPS Patient Experience Distinction and their use of patient experience data during the transformation process.

(3) PCMH-A Assessment Tool to be completed by the lead PCMH clinical expert (before or after the interview on the standardized form via fax or email) to collect validated metrics on the “PCMH-ness” of the practice.

(4) CAHPS Patient Experience Data Files, which are patient-level de-identified CAHPS patient experience data covering the period of PCMH transformation for the participating practice. These data are collected independently of this study by the practice (or network) via their current vendor. We will work with the PCMH clinical expert (or a person they designate who handles their data) in each of the participating practices to submit these CAHPS data files securely to RAND to understand practices' CAHPS patient experience trends and associations with PCMH implementation during practices' PCMH journey.

Characterizing primary care practices' use of CAHPS and PCMH items will provide important insight into the activities practices conduct during PCMH transformation to improve patient experience scores. This information may be useful in supporting practices that lag behind their peers, learning from practices with outstanding records of patient experience, and providing recommendations that may be used to refine the content of the CAHPS survey items.

Estimated Annual Respondent Burden

Table 1 shows the estimated annualized burden and cost for the respondents' time to participate in this data collection. These burden estimates are based on tests of data collection conducted on nine or fewer entities. As indicated below, the annual total burden hours are estimated to be 179 hours. The annual total cost associated with the annual total burden hours is estimated to be $16,899.

Table 1 shows the estimated annualized burden for the respondents' time to participate in this data collection. The PCMH Items Demonstration Study will recruit 150 practices including the participating practices' office managers and one physician/lead PCMH clinical expert. We will recruit and administer the Office Manager Questions by phone to 150 office managers, recruit all sampled physicians by sending them a recruitment packet that includes a cover letter, an AHRQ endorsement letter and an info sheet, and then administer the Physician Interview protocol questions by phone to 150 physicians, and 150 physicians will self-administer the PCMH-A Assessment Tool.

We have calculated our burden estimate for Office Manager Questions asked during physician recruitment using an estimate of 3-5 questions a minute as the Office Manager Questions are closed-ended survey questions. The Office Manager Questions contains 17 questions and is estimated to require an average of 5 minutes; this estimate is supported by the information gathered during a pilot of these questions. For the Physician Interview, we have calculated the burden estimate to require an average of 40 minutes per interview. For the PCMH-A Assessment Tool, we calculated our burden using a conservative estimate of 4.5 items per minute. Prior work suggests that 3-5 items on an assessment tool can typically be completed per minute, depending on item complexity and respondent characteristics (Berry, 2009; Hays & Reeve, 2010). The PCMH-A Assessment tool contains 36 items and is estimated to require an average completion time of 8-10 minutes.

Participating practices will be asked to submit any available CAHPS Patient Experience data files (e.g. submission of de-identified data including a data dictionary via encrypted transfer) for the period of time covering their NCQA PCMH Recognition history. Each practice will have an average estimate of 3 CAHPS Patient Experience data files to submit per one submission, which we based on the average number of years of PCMH history of the sample. In addition, we conservatively estimate that half of the control practices (25/50) administer CG-CAHPS data, as this percentage is unknown; while 90% of the participating current and past CAHPS practices (90/100) will submit CAHPS data, yielding 115 submissions of CAHPS patient experience data files. As indicated below, the annual total burden is estimated to be 179 hours.

Exhibit 1—Estimated Annualized Burden Hours
Data collection task | Number of respondents | Number of responses per respondent | Hours per response | Total burden hours
Office Manager Questions | 150 | 1 | 5/60 | 12.5
Physician Interview | 150 | 1 | 40/60 | 100
PCMH-A Assessment Tool | 150 (Same Physicians as above) | 1 (same person as above) | 15/60 | 37.5
CAHPS Patient Experience Data Files | 115 | 1 per practice | 15/60 | 28.75
Total | 415 | 1 | 75/60 | 178.75
+ The same respondent completes the Physician Interview and PCMH-A Assessment Tool and submits the CAHPS Patient Experience Data Files.

Exhibit 2—Estimated Annualized Cost Burden
Data collection task | Number of requests | Total burden hours | Average hourly wage rate * | Total cost burden
Office Manager Questions | 150 | 12.5 | $57.44 ᵃ | $718.00
Physician Interview | 150 | 100 | 97.33 ᵇ | 9,733.00
PCMH-A Assessment Tool | 150 | 37.5 | 97.33 ᵇ | 3,649.88
CAHPS Patient Experience Data Files | 115 | 28.75 | 97.33 ᵇ | 2,798.24
Total | 300 | 178.75 | 55.48 | 16,899.12
+ The same respondent completes the Physician Interview and PCMH-A Assessment Tool and submits the CAHPS Patient Experience Data Files.
* Occupational Employment Statistics, May 2015 National Occupational Employment and Wage Estimates United States, U.S. Department of Labor, Bureau of Labor Statistics. http://www.bls.gov/oes/current/oes_nat.htm
ᵃBased on the mean wages for General and Operations Managers, 11-1021 within Healthcare Support Occupations, the occupational group most likely tasked with completing the Office Manager Questions.
ᵃBased on the mean wages for Physicians and Surgeons, 29-1060, the occupational group most likely tasked with completing the Physician Interview, PCMH-A Assessment Tool, and submitting the CAHPS Patient Experience Data Files.

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Sharon B. Arnold,
Deputy Director.

[FR Doc. 2016-28155 Filed 11-22-16; 8:45 am]

BILLING CODE 4160-90-P